DEPARTMENT OF HEALTH AND HUMAN SERVICES

National Institutes of Health

National Institute on Aging; Amended Notice of Meeting

Correction

Notice document 2022-10055, appearing on page 28840, in the issue of Wednesday, May 11, 2022, inadvertently published in error and is hereby withdrawn.

[FR Doc. C1-2022-10055 Filed 5-13-22; 8:45 am]

BILLING CODE 0099-10-P